DEPARTMENT OF HOMELAND SECURITY

Coast Guard

33 CFR Part 110

[Docket Number USCG-2020-0312]

Request To Modify Thames River Special Anchorage Area No. 4

AGENCY: Coast Guard, DHS.

ACTION: Notification of inquiry; request for comments.

SUMMARY: We are requesting your comments on a submission we received from a company to modify the coordinates of Thames River Special Anchorage Area No. 4 as they begin the permitting process for a new waterfront facility in New London, CT. The facility will be located on the Thames River between the Gold Star Bridge and the Coast Guard Academy, and the current pier design would intersect the current Thames River Special Anchorage Area No. 4. We seek your comments on how the Thames River Special Anchorage Area No. 4 is currently used and how any modifications to the anchorage may impact you.

DATES: Your comments and related material must reach the Coast Guard on or before October 6, 2020.

ADDRESSES: You may submit comments identified by docket number USCG-2020-0312 using the Federal portal at https://www.regulations.gov. See the “Public Participation and Request for Comments” portion of the SUPPLEMENTARY INFORMATION section for further instructions on submitting comments.

FOR FURTHER INFORMATION CONTACT: If you have questions about this notification of inquiry, call or email LT Jennifer Sheehy, Waterways Management Division, Sector Long Island Sound; telephone (203) 468-4432; email Jennifer.L.Sheehy@uscg.mil.

SUPPLEMENTARY INFORMATION:

I. Table of Abbreviations

CFR Code of Federal Regulations

DHS Department of Homeland Security

§ Section

U.S.C. United States Code

II. Background and Purpose

In May 2020, Coast Guard Sector Long Island Sound was notified that Mohawk Northeast, Inc. was developing plans to construct a new waterfront facility in New London, CT on the Thames River between the Gold Star Bridge (I-95) and the U.S. Coast Guard Academy. The plans for this new facility included a pier which would intersect the southern half of the existing Thames River Special Anchorage Area No. 4, a special anchorage area cited in 33 CFR 110.52.

Under authority in 33 U.S.C. 2071, the Coast Guard establishes special anchorage areas in order to facilitate use of inland navigable waterways by both recreational and commercial vessels. Special anchorage areas allow vessels less than 65 feet in length to safely anchor without requiring an anchor light or sound signal.

In late 2019, Mohawk Northeast, Inc. purchased three acres of property providing direct access to the waterfront on the Thames River, which included Riparian rights in the river. Mohawk intends to develop their New London property to include a marine terminal capable of handling heavy civil and industrial materials with direct rail access.

Due to safety concerns with unlit, anchored vessel in close proximity to an active marine terminal, Mohawk requested a modification to the anchorage boundaries to exclude the southern half of the anchorage which intersects the proposed marine terminal. This would remove the southern half of the anchorage area, but leave the northern half available for anchoring.

III. Information Requested

We encourage you to submit comments on the requested modification to Thames River Special Anchorage Area No. 4. Specifically, do you use the anchorage area? If so, do you typically anchor in the northern or southern half? How often do you anchor there and for how long? Do you see other vessels anchoring in Area No. 4? Do you agree or disagree with modifying the special anchorage area?

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice of inquiry and provide a reason for each suggestion or recommendation.

We accept anonymous comments. All comments received will be posted without change to https://www.regulations.gov and will include any personal information you have provided. For more about privacy and submissions in response to this document, see DHS's eRulemaking System of Records notice (85 FR 14226, March 11, 2020).

Documents mentioned in this notice of inquiry as being available in the docket, and all public comments, will be in our online docket at https://www.regulations.gov and can be viewed by following that website's instructions.

Dated: July 27, 2020.
E.J. Van Camp,
Captain, U.S. Coast Guard, Captain of the Port Long Island Sound.

[FR Doc. 2020-16522 Filed 8-6-20; 8:45 am]

BILLING CODE 9110-04-P